NATIONAL AERONAUTICS AND SPACE ADMINISTRATION

[Notice (01-150)]

National Environmental Policy Act; NASA Ames Development Plan

AGENCY: National Aeronautics and Space Administration.

ACTION: Notice of availability of the Draft Environmental Impact Statement (DEIS) for the NASA Ames Development Plan and notice of meeting.

SUMMARY: Pursuant to the National Environmental Policy Act of 1969 (NEPA), as amended (42 U.S.C. 4321 et seq.), the Council on Environmental Quality Regulations for Implementing the Procedural Provisions of NEPA (40 CFR parts 1500-1508), and the National Aeronautics and Space Administration (NASA) policy and procedures (14 CFR part 1216 subpart 1216.3), NASA has prepared, and is requesting comment on, a DEIS for the proposed NASA Ames Development Plan (NADP). In the NADP, NASA is proposing to develop a world-class, shared-use education, research and development campus at Ames Research Center (ARC) Santa Clara County, California. The proposed shared use campus, which would include the proposed NASA Research Park (NRP), will be focused on astrobiology, life sciences, space sciences, nanotechnology, biotechnology, information technology and aeronautics. As part of the NADP, NASA officials plan to create partnerships with Federal, State and local government agencies, universities, private industry and non-profit organizations in support of NASA's mission to conduct research and develop new technologies. The purpose of the DEIS is to assess the environmental consequences associated with development alternatives under the proposed NADP and the no-action alternative. Implementation of the preferred alternative is expected to result in significant environmental impacts in the following areas: traffic, air quality, and housing supply.

The DEIS also includes, in its appendixes, the General Conformity Determination for Carbon Monoxide prepared pursuant to the Clean Air Act, the Biological Assessment prepared pursuant to the Endangered Species Act, and the Historic Resources Protection Plan and Programmatic Agreement prepared in compliance with the National Historic Preservation Act. NASA is also requesting comments on these documents.

DATES: The agency must receive written or electronic mail comments on the DEIS and the other documents listed on or before January 14, 2002 or 50 days from the date of publication in the Federal Register of the U.S. Environmental Protection Agency's notice of availability of the NADP DEIS, whichever is later. Public meetings to receive comments on the DEIS will be held in the vicinity of NASA Ames Research Center during December 2001. The specific times and locations will be published in the San Jose Mercury News (http://www.mercurycenter.com) and La Oferta Review (http://www.laoferta.com).

ADDRESSES: The DEIS can be reviewed at the following locations:

1. Mountain View Public Library, Reference Section, 585 Franklin Street, Mountain View, CA (650-903-6887).

2. Sunnyvale Public Library, Reference Section, 665 West Olive Avenue, Sunnyvale, CA (650-730-7300).

3. NASA Headquarters, Library, Room lJ20, 300 E Street SW, Washington, DC 20546 (202-358-0167).

4. Access electronically at http://researchpark.arc.nasa.gov.

Limited copies of the DEIS are available, on a first request basis, by contacting Ms. Sandy Olliges, NASA, Ames Research Center, M.S. 218-1/Building 218, Moffett Field, CA 94035-1000; telephone 650-604-3355; electronic mail (solliges@arc.nasa.gov).

Submit all comments in writing to Ms. Sandy Olliges, NASA Ames Research Center, Environmental Services Office, Mail Stop 218-1, Moffett Field, CA 94035-1000 or electronically to researchpark@arc.nasa.gov.

FOR FURTHER INFORMATION CONTACT: Ms. Sandy Olliges, NASA, Ames Research Center, M.S. 218-1/ Building 218, Moffett Field, CA 94035-1000; telephone 650-604-3355; electronic mail (solliges@arc.nasa.gov).

SUPPLEMENTARY INFORMATION: In 1991, the Federal Base Closure and Realignment Commission decided to close Moffett Field Naval Air Station. Subsequently, the U.S. Department of Defense transferred stewardship of the property to NASA. NASA took over administration of 752 hectares (1,857 acres) of Moffett Field in 1994. The immediate issues were how to use the newly acquired land in a manner consistent with NASA's mission, and how to pay for the maintenance and operations of such a large site. These matters were originally addressed in the Moffett Field Comprehensive Use Plan (CUP) and its associated Environmental Assessment (EA), which resulted in a Finding of No Significant Impact (FONSI) in 1994. After transfer of the property, local community leaders formed a Community Action Committee (CAC) and recommended uses for the newly acquired land. The uses proposed in the NADP are consistent with the CAC recommendations.

In addition to the activities described in the CUP, NASA now proposes to develop the NRP and other areas by building on the full range of existing high-technology and aviation resources at Moffett Field and creating partnerships with Federal, State, and local governmental agencies, universities, private industry and non-profit organizations in support of NASA's mission to develop new technologies. With the help of these collaborative organizations and consistent with its mission, NASA proposes to develop a world-class, shared-use educational and research and development (R&D) campus focused on the advancement of human knowledge about nanotechnology, information technology, biotechnology, astrobiology, life sciences, space sciences and aeronautics. By integrating public and private R&D efforts at the NRP, NASA would create a hub for technology transfer, stay abreast of cutting-edge technology advances, and facilitate the commercial applications of NASA's basic scientific research.

Alternatives for the development at ARC in the DEIS include:

Alternative 1: The No Action Alternative. Under the No Action Alternative, NASA would not propose new development for ARC at this time. However, NASA would implement several projects at ARC that are already approved pursuant to the NASA ARC Comprehensive Use Plan Environmental Assessment (EA) and Finding of No Significant Impact (FONSI), and the California Air National Guard Master Plan EA and FONSI.

Alternative 2: In Alternative 2, NASA proposes to develop approximately 360,000 square meters (3.9 million square feet) of new space overall in the following development areas: NRP (located to the south of the present Ames Campus), Bay View (located to the north of the Ames Campus), and the Eastside/Airfield areas (located along the east side of the Bay View, Ames Campus, and NRP areas). Within the NRP area, there would be approximately 190,000 square meters (2 million square feet) of new educational, office, research and development, museum, conference center, housing and retail development. Approximately 52,000 square meters (560,000 square feet) of existing non-historic structures would be demolished, and approximately 46,000 square meters (500,000 square feet) of existing space would be renovated. In this alternative, NASA proposes approximately 121,000 square meters (1.3 million square feet) of new educational and housing development in the Bay View area, and approximately 51,000 square meters (550,000 square feet) of new low density research and development and light industrial space. Hangars 2 and 3 in the Eastside/Airfield area would be renovated. Total build out under this alternative would be approximately 845,000 square meters (9.1 million square feet).

Alternative 3: Based on the ideas of Traditional Neighborhood Design, NASA, in Alternative 3, would create a new mixed-use development within the NRP. In this alternative, NASA proposes: (1) The addition of approximately 280,000 square meters, (3 million square feet) of new educational, office, research and development, museum, conference center, housing and retail development, (2) the demolition of approximately 52,000 square meters (560,000 square feet) of non-historic structures, and 3) the renovation of approximately 46,000 square meters (500,000 square feet) of existing space. NASA does not propose any new construction in the Bay View or Eastside/Airfield areas, although Hangars 2 and 3 in the Eastside/Airfield area would be renovated for low-intensity research and development or light industrial uses. The total build out under Alternative 3 would be approximately 760,000 square meters (8.2 million square feet).

Alternative 4: In Alternative 4, NASA would concentrate more of the new development in the Bay View area than it would in the other alternatives, while creating less dense development in the NRP area. In Alternative 4, NASA proposes: (1) The addition of approximately 145,000 square meters (1.6 million square feet) of new educational office, research and development, museum, conference center, housing and retail space in the NRP area, (2) the demolition of approximately 52,000 square meters (560,000 square feet) of non-historic structures and (3) the renovation of approximately 46,000 square meters (500,000 square feet) of existing space. In the Bay View area, NASA proposes approximately 251,000 square meters (2.7 million square feet) of new office, research and development, laboratory, educational, and student/faculty housing development. In the Eastside/Airfield area, NASA proposes (1) The creation of approximately 62,000 square meters (670,000 square feet) of new light industrial, research and development, office and educational facility development, and (2) renovation of the historic hangars. The total build out under Alternative 4 would be approximately 940,000 square meters (10.1 million square feet).

Alternative 5: The Preferred Alternative. Under Alternative 5, NASA would allow some new construction in each of the four development areas, but would concentrate most of this construction in the NRP area. In this alternative, NASA proposes: (1) The addition of approximately 192,000 square meters (2 million square feet) of new educational, office, research and development, museum, conference center, housing and retail space in the NRP Area, (2) the demolition of approximately 52,000 square meters (560,000 square feet) of non-historic structures, and (3) the renovation of approximately 56,000 square meters (600,000 square feet) of existing space. In the Bay View area, NASA proposes the addition of approximately 93,000 square meters (1 million square feet) of new development, primarily for housing. In the Eastside/Airfield area, NASA proposes the construction of approximately 1,115 square meters (12,000 square feet) of new space in a new control tower. Finally, in the Ames Campus area, NASA proposes to demolish approximately 37,000 square meters (400,000 square feet) of existing buildings to make way for 46,000 square meters (500,000 square feet) of high density office and research and development space. Total build out under Alternative 5 would be approximately 780,000 square meters (8.4 million square feet).

NASA has selected Alternative Five as the Preferred Alternative. The Preferred Alternative has been identified as the option that best meets NASA's purpose and need.

The DEIS also includes the General Conformity Determination for Carbon Monoxide as an appendix since implementing alternatives 2 through 5 would generate more than 100 tons per year of carbon monoxide, a pollutant regulated in the San Francisco Bay Area under the California State Implementation Plan. Ozone and its precursors (reactive organic gases and nitrogen oxides) are also regulated, but none of the alternatives would generate more than de minimus amounts of these pollutants. Although more than 100 tons per year of carbon monoxide would be generated by the preferred alternative, no violation of National Ambient Air Quality Standards is expected.

Pursuant to section 7 of the Endangered Species Act, NASA has initiated consultation with the United States Fish and Wildlife Service, and has prepared a Biological Assessment to describe the effects of the proposed action on the federally listed species at the site. No adverse effect is expected from implementation of any of the alternatives. The Biological Assessment is an appendix to the DEIS.

Since proposed removal of non-historic structures, construction of new buildings, and rehabilitation of historic structures in Alternatives 1 through 5 have the potential to disturb the integrity of the Shenandoah Plaza Historic District and contributing elements in the NRP if not designed carefully to ensure the compatibility of the changes with historic architecture, NASA, pursuant to the National Historic Preservation Act (NHPA), has prepared a Historic Resources Protection Plan (HRPP) for the Shenandoah Plaza Historic District. NASA has also prepared a Programmatic Agreement (PA) with the Advisory Council on Historic Preservation and the California State Historic Preservation Officer to adopt and implement the HRPP. No adverse effect is expected from implementation of Alternative 5, the preferred alternative. The HRPP and PA are an appendix of the DEIS.

Jeffrey E. Sutton,
Associate Administrator for Management Systems.

[FR Doc. 01-29283 Filed 11-20-01; 8:45 am]

BILLING CODE 7510-01-P